DEPARTMENT OF ENERGY

Federal Energy Regulatory Commission

[Docket No. RP02-231-000]

Kern River Gas Transmission Company; Notice of Tariff Filing

May 2, 2002.

Take notice that on April 24, 2002, Kern River Gas Transmission Company (Kern

River) tendered for filing as part of its FERC Gas Tariff, Second Revised Volume No. 1, the following tariff sheets, to be effective as shown.

Eighth Revised Sheet No. 5 (Effective 5/1/02)

Ninth Revised Sheet No. 5 (Effective 7/1/02)

Tenth Revised Sheet No. 5 (Effective 5/1/03)

Sixth Revised Sheet No. 6 Effective 5/1/02)

Seventh Revised Sheet No. 6 (Effective 7/1/02)

Eighth Revised Sheet No. 6 (Effective 5/1/03)

Original Sheet No. 110-A (Effective 7/1/02)

Original Sheet No. 110-B (Effective 7/1/02)

Kern River states that the purpose of this compliance filing is to roll-in the cost and billing determinants of its amended 2002 Expansion Project, including permanent costs arising from the California Action Project, into the rates applicable to Extended Term shippers. Kern River states that this filing is made in compliance with the Commission's prior orders and is consistent with the provisions of the general rate settlement in Docket No. RP99-274. The filing establishes rates applicable to the 2002 Expansion Project shippers, reduces rates for interruptible and authorized overrun transportation, and reduces rates applicable to Extended Term shippers.

Kern River states that it has served a copy of this filing upon its customers and interested state regulatory commissions.

Any person desiring to be heard or to protest said filing should file a motion to intervene or a protest with the Federal Energy Regulatory Commission, 888 First Street, NE., Washington, DC 20426, in accordance with Sections 385.214 or 385.211 of the Commission's rules and regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-11416 Filed 5-7-02; 8:45 am]

BILLING CODE 6717-01-P